DEPARTMENT OF LABOR

Office of the Secretary

Submission for OMB Review; Comment Request

November 13, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at (202) 219-8904 or Email Howze-Marlene@dol.gov.

Comments should be sent to Office of Information and Regulatory Affairs, Attn: OMB Desk Officer for ESA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Employment Standards Administration (ESA).

Title: Payment of Compensation Without Award.

OMB Number: 1215-0022.

Affected Public: Business of other for-profit.

Frequency: On Occasion.

Number of Respondents: 900.

Number of Annual Responses: 26,100.

Estimated Time Per Response: 15 minutes.

Total Burden Hours: 6,525.

Total Annualized Capital/Startup Costs: 0.

Total Annual Costs (operating/maintaining systems or purchasing services): 10,224.25.

Description: The Office of Workers' Compensation Programs (OWCP) administers the Longshore and Harbor Workers' Compensation Act. This Act provides benefits to workers injured in maritime employment on the navigable waters of the United States or in an adjoining area customarily used by an employer in loading, unloading, repairing, or building a vessel. The OWCP district offices use the information provided on Form LS-206 to determine the payment status of a given case. If the information were not collected the OWCP would have no way of determining whether compensation payments had been made by liable insurance carriers and self-insured employers.

Type of Review: Revision of currently approved collection.

Agency: Employment Standards Administration (ESA).

Title: Black Lung Provider Enrollment Form.

OMB Number: 1215-0137.

Affected Public: Business or other for-profit.

Frequency: On Occasion.

Number of Respondents: 9,000.

Number of Annual Responses: 9,000.

Estimated Time Per Response: 8 minutes (new enrollees) and 3 minutes (existing respondents).

Total Burden Hours: 1,017.

Total Annualized Capital/Startup Costs: $0.

Total Annual Costs (operating/maintaining systems or purchasing services): $3,330.

Description: The Division of Coal Mine Workers' (DCMWC) is responsible for maintaining a list of authorized treating physicians and medical facilities in the area of the miner's residence and for payment of certain medical bills for services and supplies provided to the miner under the Black Lung Benefits Act [30 U.S.C. 901 et seq., 20 CFR 725.704(a) and 725.705(b)].

The OWCP-1168 is used to obtain profile information on each provider such as tax identification number, specialty, and addresses. Failure to obtain this data will prolong the bill payment process and increase the burden on providers by requiring them to resubmit bills that were previously rejected by DCMWC due to inadequate provider information.

Type of Review: Extension of a currently approved collection.

Agency: Employment Standards Administration (ESA).

Title: Request for Information on Earnings, Dual Benefits, Dependents and Third Party Settlements.

OMB Number: 1215-0151.

Affected Public: Individuals or households.

Frequency: Annually.

Number of Respondents: 50,000.

Number of Annual Responses: 50,000.

Estimated Time Per Response: 20 minutes.

Total Burden Hours: 16,667.

Total Annualized Capital/Startup Costs: $0.

Total Annual Costs (operating/maintaining systems or purchasing services): $18,500.

Description: The information request on the CA-1032 is obtained from claimants receiving continuing compensation on the periodic disability roll. The form requests information on the claimant's earnings, dependents, third party settlements, and other Federal benefits received. The information collected on this form is used to ensure that compensation being paid on the periodic roll is correct and to ensure that compensation payments meet the terms and conditions set forth in the Federal Employees' Compensation Act. Without this information, claimants might receive compensation to which they were not entitled, resulting in an overpayment of compensation.

Ira L. Mills,
Departmental Clearance Officer.

[FR Doc. 01-29507 Filed 11-27-01; 8:45 am]

BILLING CODE 4510-CF-M